COMMITTEE FOR THE IMPLEMENTATION OF TEXTILE AGREEMENTS

Amendment of Coverage of Import Limits for Certain Part-Categories Produced or Manufactured in the People's Republic of China and Uruguay

January 10, 2001.

AGENCY: Committee for the Implementation of Textile Agreements (CITA).

ACTION: Issuing a directive to the Commissioner of Customs amending coverage for import limits.

EFFECTIVE DATE: December 1, 2000.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

Certain tariff and statistical annotations have been amended in the Harmonized Tariff Schedule of the United States (HTS) in implementing Title V of the Trade and Development Act of 2000 (Public Law 106-2000). To facilitate implementation of the Uruguay Round Agreement on Textiles and Clothing and other textile agreements based upon the HTS, the tariff numbers in part-Category 410 B, which apply to imports from China and Uruguay, are being changed, as is a number in Category 440-M, which applies to imports from China. This change applies to imports entered for consumption or withdrawn from warehouse for consumption on and after December 1, 2000, regardless of the date of export.

In the letter published below, the Chairman of CITA directs the Commissioner of Customs to amend import controls for 2000 and 2001 for China and Uruguay and the current visa arrangement for China.

Richard B. Steinkamp,
Chairman, Committee for the Implementation of Textile Agreements.

Committee for the Implementation of Textile Agreements

January 10, 2001.

Commissioner of Customs,

Department of the Treasury, Washington, DC 20229.

Dear Commissioner: This directive amends, but does not cancel, the directives issued to you on December 6, 1999, and December 20, 2000, by the Chairman, Committee for the Implementation of Textile Agreements, which established import controls for the People's Republic of China for agreement years 2000 and 2001, respectively. This directive also amends, but does not cancel, the directive issued to you on March 27, 1997, by the Chairman, Committee for the Implementation of Textile Agreements. That directive established an export visa arrangement for certain silk apparel, cotton, wool, man-made fiber, silk blend, and other vegetable fiber textiles and textile products, produced or manufactured in the People's Republic of China.

In addition, this directive amends, but does not cancel, the directives issued to you on October 21, 1999, and on November 2, 2000, by the Chairman, Committee for the Implementation of Textile Agreements, which established import controls for Uruguay for agreement years 2000 and 2001, respectively.

Effective on December 1, 2000, you are directed to make the changes shown below in the aforementioned directives for products entered in the United States for consumption or withdrawn from warehouse for consumption on and after December 1, 2000, for part-Categories 410-B and 440-M, regardless of the date of export:

Category | HTS change
410-B |
| Delete 5112.11.2030 and replace with 5112.11.3030 and 5112.11.3060.
| Delete 5112.11.2060 and replace with 5112.11.6030 and 5112.11.6060.
| Delete 5112.19.9010 and replace with 5112.19.6010 and 5112.19.9510.
| Delete 5112.19.9020 and replace with 5112.19.6020 and 5112.19.9520.
| Delete 5112.19.9030 and replace with 5112.19.6030 and 5112.19.9530.
| Delete 5112.19.9040 and replace with 5112.19.6040 and 5112.19.9540.
| Delete 5112.19.9050 and replace with 5112.19.6050 and 5112.19.9550.
| Delete 5112.19.9060 and replace with 5112.19.6060 and 5112.19.9560.
440-M | Delete 6203.21.0030 and replace with 6203.21.9030.

The Committee for the Implementation of Textile Agreements has determined that these actions fall within the foreign affairs exception to the rulemaking provisions of 5 U.S.C. 553(a)(1).

Sincerely,

Richard B. Steinkamp,

Chairman, Committee for the Implementation of Textile Agreements.

[FR Doc. 01-1314 Filed 1-16-01; 8:45 am]

BILLING CODE 3510-DR-F